FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 201143-015.

Title: West Coast MTO Agreement.

Parties: APM Terminals Pacific, Ltd.; Eagle Marine Services, Ltd.; Everport Terminal Services, Inc.; International Transportation Service, Inc.; LBCT LLC d/b/a Long Beach Container Terminal LLC; Trapac, Inc.; Total Terminals LLC; West Basin Container Terminal LLC; Yusen Terminals, Inc.; Pacific Maritime Services, L.L.C.; SSA Terminals, LLC; and SSA Terminal (Long Beach), LLC.

Filing Party: Wayne R. Rohde, Esq.; Cozen O'Connor; 1200 19th Street NW.; Washington, DC 20036.

Synopsis: The amendment deletes California United Terminals, Inc. as a party to the Agreement.

Agreement No.: 012490.

Title: APL/SWIRE Guam, Saipan-S. Korea, Japan Slot Charter Agreement.

Parties: American President Lines, LLC; APL Co. Pte Ltd; and The China Navigation Co. Pte Ltd d/b/a/Swire Shipping.

Filing Party: Draughn Arbona; CMA CGM (America) LLC; 5701 Lake Wright Drive; Norfolk, VA 23502.

Synopsis: The Agreement authorizes APL to charter space to SWIRE in the trade between Guam and Saipan, Northern Mariana Islands on the one hand, and ports in South Korea and Japan on the other hand.

By Order of the Federal Maritime Commission.
Dated: September 1, 2017.
JoAnne D. O'Bryant,
Program Analyst.

[FR Doc. 2017-18986 Filed 9-6-17; 8:45 am]

BILLING CODE 6731-AA-P